DEPARTMENT OF COMMERCE

International Trade Administration

[A-351-824]

Silicomanganese From Brazil: Final Results of Antidumping Duty Administrative Review

AGENCY: Import Administration, International Trade Administration, Department of Commerce.

.

SUMMARY: On September 9, 2005, the Department of Commerce published the preliminary results of the administrative review of the antidumping duty order on silicomanganese from Brazil. The review covers exports of this merchandise to the United States by the collapsed parties, Rio Doce Manganês S.A. (RDM), Companhia Paulista de Ferro-Ligas (CPFL), and Urucum Mineração S.A. (Urucum) (collectively RDM/CPFL), for the period December 1, 2003, through November 30, 2004. We gave interested parties an opportunity to comment on the preliminary results. Based on our analysis of the comments received, we have made a change in the margin calculation for the final results of this review. The final weighted-average margin is listed below in the “Final Results of Review” section of this notice.

EFFECTIVE DATE: January 17, 2006.

FOR FURTHER INFORMATION CONTACT: Yang Jin Chun at (202) 482-5760 or Dmitry Vladimirov at (202) 482-0665, AD/CVD Operations, Office 5, Import Administration, International Trade Administration, U.S. Department of Commerce, 14th Street and Constitution Avenue, NW., Washington, DC 20230.

SUPPLEMENTARY INFORMATION:

Background

On September 9, 2005, the Department of Commerce (the Department) published the preliminary results of this review and invited parties to comment. See Silicomanganese From Brazil: Preliminary Results of Antidumping Duty Administrative Review, 70 FR 53628 (Preliminary Results). On October 10, 2005, RDM/CPFL, the respondent, filed a case brief. Eramet Marietta, the petitioner, did not file case or rebuttal briefs.

Scope of the Order

The merchandise covered by this order is silicomanganese. Silicomanganese, which is sometimes called ferrosilicon manganese, is a ferroalloy composed principally of manganese, silicon and iron, and normally contains much smaller proportions of minor elements, such as carbon, phosphorus, and sulfur. Silicomanganese generally contains by weight not less than 4 percent iron, more than 30 percent manganese, more than 8 percent silicon, and not more than 3 percent phosphorous. All compositions, forms, and sizes of silicomanganese are included within the scope of the order, including silicomanganese slag, fines, and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040. This order covers all silicomanganese, regardless of its tariff classification. Although the HTSUS subheadings are provided for convenience and customs purposes, the written description of the order remains dispositive.

Analysis of Comments Received

All issues raised in RDM/CPFL's case brief in the context of this administrative review are addressed in the January 9, 2006, Issues and Decision Memorandum for the Final Results of the Administrative Review of the Antidumping Duty Order on Silicomanganese from Brazil December 1, 2003, through November 30, 2004 (the Decision Memorandum), which is hereby adopted by this notice. Attached to this notice as an appendix is a list of the issues that RDM/CPFL has raised and to which we have responded in the Decision Memorandum. Parties can find a complete discussion of all issues raised in this review and the corresponding recommendations in this public memorandum, which is on file in the Central Records Unit, Room B-099 of the main Department building. In addition, a complete version of the Decision Memorandum can be accessed directly on the Internet at http://ia.ita.doc.gov/frn. The paper copy and electronic version of the Decision Memorandum are identical in content.

Sales Below Cost in the Home Market

The Department conducted an investigation to determine whether RDM/CPFL made home-market sales at prices below the cost of production. See Preliminary Results, 70 FR at 53630. As a result of its investigation, the Department disregarded certain below-cost home-market sales for these final results.

Changes Since the Preliminary Results

Based on our analysis of the comments received, we have made a change in the margin calculation for the final results of this review and described the change in the accompanying Issues and Decision Memorandum dated January 9, 2006. See also Analysis Memorandum for the Final Results of the Administrative Review of the Antidumping Duty Order on Silicomanganese from Brazil: Rio Doce Manganês S.A. (RDM), Companhia Paulista de Ferro-Ligas (CPFL), and Urucum Mineração S.A. (Urucum) (collectively, RDM/CPFL), dated January 9, 2006.

Final Results of Review

As a result of our review, we determine that a margin of 0.00 percent exists for RDM/CPFL for the period December 1, 2003, through November 30, 2004.

Duty Assessment and Cash-Deposit Requirements

The Department shall determine, and U.S. Customs and Border Protection (CBP) shall assess, antidumping duties on all appropriate entries. In accordance with 19 CFR 351.212(b)(1), we have calculated an importer-specific per-unit dollar amount for the subject merchandise. The Department will issue appropriate assessment instructions directly to CBP within 15 days of publication of these final results of review.

The following deposit requirements will be effective upon publication of this notice of final results of administrative review for all shipments of silicomanganese entered, or withdrawn from warehouse, for consumption on or after the publication date of the final results, as provided by section 751(a)(2)(C) of the Act: (1) the cash-deposit rate for RDM/CPFL will be 0.00 percent; (2) for previously reviewed or investigated companies not mentioned above, the cash-deposit rate will continue to be the company-specific rate published for the most recent period; (3) if the exporter is not a firm covered in this review, a prior review, or the less-than-fair-value (LTFV) investigation but the manufacturer is, then the cash-deposit rate will be the rate established for the most recent period for the manufacturer of the merchandise; and (4) if neither the exporter nor the producer is a firm covered in this review, a prior review, or the LTFV investigation, the cash-deposit rate shall be 17.60 percent, the all-others rate established in the LTFV investigation. See Notice of Final Determination of Sales at Less Than Fair Value: Silicomanganese from Brazil, 59 FR 55432 (November 7, 1994). These deposit requirements shall remain in effect until publication of the final results of the next administrative review.

Notification to Importers

This notice serves as a primary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding APOs

This notice also serves as a reminder to parties subject to administrative protective orders (APO) of their responsibility concerning the disposition of proprietary information disclosed under APO as explained in the APO itself. Timely written notification of the return/destruction of APO materials or conversion to judicial protective order is hereby requested. Failure to comply with the regulations and terms of an APO is a sanctionable violation.

We are publishing these final results of administrative review and notice in accordance with sections 751(a)(1) and 777(i)(1) of the Act.

Dated: January 9, 2006.
David M. Spooner,
Assistant Secretary for Import Administration.

APPENDIX—Issues in the Decision Memorandum

Comment 1: Affiliation with Certain Home-Market Customers

Comment 2: U.S. Gross Unit Price

[FR Doc. E6-410 Filed 1-13-06; 8:45 am]

BILLING CODE 3510-DS-S